DEPARTMENT OF STATE

[Public Notice 4702]

Secretary of State's Advisory Committee on Private International Law: General Meeting on International Developments

SUMMARY: A general open meeting of the Advisory Committee will be held in Washington, DC on May 20-21, 2004, at the International Law Institute (ILI) in Georgetown.

Meeting Notice:

The Department of State's Advisory Committee on Private International Law (ACPIL) will hold a general meeting on Thursday and Friday, May 20 and 21, 2004, in Washington, DC at the International Law Institute. The meeting will survey developments in the field and offer an opportunity for members of the public to comment both on those developments and to make recommendations for work that might be undertaken in various international fora.

The agenda tentatively will cover current developments in international bodies that focus on private international law, such as the United Nations Commission on International Trade Law (UNCITRAL), the Hague Conference on Private International Law, the International Institute for Unification of Private Law (UNIDROIT), the Organization of American States and others. Regional developments relevant to private law will also be reviewed, which will cover the European Union, NAFTA, Mercosur, and others, depending on time available.

Particular topics will be discussed, including: The status of negotiations of a multilateral treaty (convention) on choice of forum and its relation to prior efforts to negotiate a convention on recognition and enforcement of judgements, and other international developments on alternate dispute resolution; current negotiations on a convention to unify the law of carriage of goods by sea and inland carriage, with an emphasis on liability and jurisdiction issues; current negotiations on extending secured finance law to outer space commercial activities; international family law developments, including bilateral and multilateral approaches to maintenance and support obligations, and cross-border adoption and abduction; and the impact of cross-border commercial fraud, its effect on developing countries, and its place within the UN system.

The status of several other ongoing activities in this field will also be presented, including a recent Hague Convention and other international projects on new harmonized laws for investment securities; the anticipated completion of new standards for business insolvency law reform at UNCITRAL, the World Bank and the International Monetary Fund; a draft Convention on electronic commerce focusing on cross-border contract formation, and related treaty law issues, and implementation of the Cape Town Convention on international financing interests in mobile equipment, including aircraft.

Time and Place: Meetings will be held at the new facilities of the International Law Institute (ILI) at 1055 Jefferson Place, NW., in Georgetown. Meetings will begin at 9:30 a.m. Thursday and Friday and close at 5 p.m. on Thursday and 4 p.m. on Friday. The meeting is open to the public, to the extent seating capacity is available; persons planning to attend should provide their names in advance, with contact numbers, including e-mail addresses, and affiliation(s) if any, to the Office of the Assistant Legal Adviser for Private International Law by e-mail to ReidCD@state.gov or by fax to 202-776-8482. Persons who cannot attend but who wish to comment on any of the topics referred to above are welcome to do so.

Documents on these topics are obtainable at http://www.Uncitral.org; http://www.hccl.net; http://www.Unidroit.org; and http://www.oas.org. For further information on the topics, please contact Jeff Kovar at KovarJD@State.gov, Mary Helen Carlson at CarlsonMH@State.gov, or Hal Burman at Halburman@aol.com. For information on the ILI call Kiril Glavev or Don Wallace, Jr. at 202-247-6006, or email ILI at Wallace@ili.org or K-Glavev@ili.org. For information on the Advisory Committee contact Hal Burman as noted above or by fax at 202-776-8482.

Dated: April 28, 2004.
Harold S. Burman,
Advisory Committee Executive Director, Department of State.

[FR Doc. 04-10345 Filed 5-5-04; 8:45 am]

BILLING CODE 4710-08-P